DEPARTMENT OF LABOR

Employment and Training Administration

Proposed Collection; Comment Request

AGENCY: Employment and Training Administration, Labor.

ACTION: Notice.

SUMMARY: The Department of Labor, as part of its continuing effort to reduce paperwork and respondent burden, conducts a preclearance consultation process to provide the general public and Federal agencies with an opportunity to comment on proposed and/or continuing collections of information in accordance with the Paperwork Reduction Act of 1995 (PRA95) (44 U.S.C. 3506(c)(2)(A)). This process helps to ensure that requested data can be provided in the desired format, reporting burdens are minimized, collection instruments are clearly understood, and the impact of collection requirements on respondents can be properly assessed. Currently, the Employment and Training Administration (ETA) is soliciting comments concerning the proposed continuation of a reporting and performance standards system for Indian and Native American programs under Title I, Section 166 of the Workforce Investment Act (WIA). A copy of the proposed information collection request (ICR) can be obtained by contacting the office listed below in the address section of this notice.

DATES: Submit comments on or before July 19, 2004.

ADDRESSES: Send comments to Athena R. Brown, Chief, Division of Indian and Native American Programs, Employment and Training Administration, U.S. Department of Labor, Room S-4203, 200 Constitution Avenue, NW., Washington, DC 20210. Telephone: (202) 693-3737 (voice) or (202) 693-3818 (fax) (these are not toll-free numbers), or Internet: brown.athena@dol.gov.

FOR FURTHER INFORMATION CONTACT: Greg Gross, Division of Indian and Native American Programs, Employment and Training Administration, U.S. Department of Labor, Room S-4203, 200 Constitution Avenue, NW., Washington, DC 20210. Telephone: (202) 693-3752 (voice) or (202) 693-3818 (fax) (these are not toll-free numbers), or Internet: gross.gregory@dol.gov.

SUPPLEMENTARY INFORMATION:

I. Background

ETA is requesting continuation of the current reporting and performance standards system for WIA Title I, Section 166 Indian and Native American grantees for one year (July 1, 2004, to June 30, 2005), in part to coincide with the proposed expiration of the Section 166 financial report (ETA-9080) which is currently requested through June 30, 2005, under OMB Control Numbers 1205-0422 and 1205-0423. In evaluating the last few years' reporting experience of the grantees who receive funding under WIA Section 166, including those receiving Supplemental Youth Services (SYS) funds, and in light of the continuing statutory requirements of WIA applicable to Section 166 grantees, the Department has decided to extend the currently approved reporting requirements which it believes supports the current statutory requirements under WIA as they relate to the Indian and Native American Program. The only anticipated change(s) would be to accommodate the information collection requirements of the proposed “OMB Common Measures” for evaluating all federally funded employment and training programs. Further details of these possible changes are available on request. However, it should be noted that WIA comes up for reauthorization during 2004, which could result in additional, statutorily mandated reporting changes which would need to be covered in this data collection.

II. Desired Focus of Comments

The Department is particularly interested in comments which:

• Evaluate whether the proposed collection of information is necessary for the proper performance of the functions of the agency, including whether the information will have practical utility;

• Evaluate the accuracy of the agency's burden estimate for the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the proposed ICR can be obtained by contacting the office listed above in the addressee section of this notice.

III. Current Action

This ICR will be used by approximately 145 WIA Section 166 grantees as the primary reporting and performance measurement vehicle for enrolled individuals, their characteristics, training and services provided, outcomes, including job placement and employability enhancements, as well as detailed financial data on program expenditures. Grantees participating in the demonstration under Public Law 102-477 will not be affected by this collection, and have not been included in the following burden estimates.

Type of Review: Extension.

Agency: Employment and Training Administration.

Title: Reporting and Performance Standards system for Indian and Native American (INA) Programs under Title I, Section 166 of the Workforce Investment Act (WIA) (1205-0422) and WIA Employment and Training Administration Financial Requirements for INA Grantee Activities (1205-0423).

OMB Number (current): 1205-0422 and 1205-0423.

Catalog of Federal Domestic Assistance Number: 17.265 (for PY 2002 and beyond).

Record Keeping: Grantees shall retain supporting and other documents necessary for the compilation and submission of the subject reports for three years after submission of the final financial report for the grant in question (29 CFR 97.42 and/or 29 CFR 95.53). It should be noted that the burden estimates for this collection as originally approved by OMB in April of 2001 were for 27,795 responses totaling some 78,615 hours.

Affected Public: Federally recognized Indian tribes, bands, and groups; Alaska Native entities; Hawaiian Native entities; private non-profit Indian-controlled organizations; State Indian Commissions or Councils (Native American-controlled); consortia of any and/or all of the above.

Cite/Reference/Form/etc.: ETA-9084 and ETA-9085 (1205-0422):

Form No. | Respondents | Frequency | Total responses | Average time per response (hours) | Total burden hours
ETA-9084 (Comprehensive Services) | 145 | semi-annual | 290 | 9.67 | 2,804
ETA-9085 (Supplemental Youth Services) | 105 | semi-annual | 210 | 9.67 | 2,031
Recordkeeping | 145 | (as needed) | 27,295 | 2.7 | 73,780
Total | 250 | semi-annual | 27,795 | 9.67 | 78,615

ETA 9080 (1205-0423): 150 Respondents × Quarterly Reporting × 12 hours per report = 1,800 Burden Hours.

Total Burden Cost (capital/startup): $0.

Total Burden Cost (operating/maintaining): Costs associated with this collection will vary widely among grantees, from nearly no additional cost to some higher figure, depending on the state of automation attained by each grantee and the wages paid to the staff actually completing the various forms. However, because all expenditures associated with the preparation of these reports will come from the Federal grant funds themselves, there will be no costs to the grantees. The grantees will not be obligated to expend their own (i.e., non-Department) resources to fulfill these reporting requirements. All costs associated with the submission of these forms are allowable grant expenses. Comments submitted in response to this comment request will be summarized and/or included in the request for Office of Management and Budget approval of the information collection request; they also will become a matter of public record.

Signed at Washington, DC, this 14th day of May, 2004.
John R. Beverly, III,
Administrator, Office of National Programs.

[FR Doc. 04-11387 Filed 5-19-04; 8:45 am]

BILLING CODE 4510-30-P